DEPARTMENT OF HOMELAND SECURITY

Coast Guard

33 CFR Part 117

[CGD01-07-030]

Drawbridge Operation Regulations; Quinnipiac River, New Haven, CT

AGENCY: Coast Guard, DHS.

ACTION: Notice of temporary deviation from regulations.

SUMMARY: The Commander, First Coast Guard District, has issued a temporary deviation from the regulation governing the operation of the Ferry Street Bridge, across the Quinnipiac River, mile 0.7, at New Haven, Connecticut. This deviation, allows the bridge owner to keep one of the two moveable bascule spans in the closed position from April 16, 2007 through September 27, 2007. This deviation is necessary to facilitate scheduled bridge maintenance.

DATES: This deviation is effective from April 16, 2007 through September 27, 2007.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Ferry Street Bridge, across the Quinnipiac River, mile 0.7, at New Haven, Connecticut, has a vertical clearance in the closed position of 25 feet at mean high water and 31 feet at mean low water. The existing regulation requires the bridge to open on demand except for certain morning, mid-day and evening hours.

Connecticut Department of Transportation on behalf of the owner of the bridge, the City of New Haven, requested a temporary deviation to facilitate scheduled structural bridge fender repairs and painting at the bridge.

In order to perform the structural repairs, one bascule span will remain in the closed position and the other span will remain open.

Under this temporary deviation the Ferry Street Bridge across the Quinnipiac River, mile 0.7, at New Haven, Connecticut, may keep one of the two movable spans closed from April 16, 2007 through September 27, 2007.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: April 6, 2007.
Gary Kassof,
Bridge Program Manager, First Coast Guard District.

[FR Doc. E7-7156 Filed 4-13-07; 8:45 am]

BILLING CODE 4910-15-P